DEPARTMENT OF HEALTH AND HUMAN SERVICES

Health Resources and Services Administration

National Advisory Committee on Rural Health and Human Services; Notice of Correction

AGENCY: Health Resources and Services Administration (HRSA), Department of Health and Human Services (HHS).

ACTION: Notice; correction.

SUMMARY: The Health Resources and Services Administration published a notice in the Federal Register, FR 2017-23562 (October 31, 2017), announcing the charter renewal of the National Advisory Committee on Rural Health and Human Services (NACRHHS).

FOR FURTHER INFORMATION CONTACT: Paul Moore, Designated Federal Officer, NACRHHS, HRSA, 5600 Fishers Lane, Room 17W41C, Rockville, Maryland 20857, telephone (301) 443-0835, fax (301) 443-2803 or by email at pmoore2@hrsa.gov.

Correction

In the Federal Register, FR 2017-23562 (October 31, 2017), please make the following correction:

In the Summary section, correct to read: The effective date of the renewed charter is October 29, 2017.

Amy McNulty,
Acting Director, Division of Executive Secretariat.

[FR Doc. 2017-24490 Filed 11-9-17; 8:45 am]

BILLING CODE 4165-15-P